DEPARTMENT OF THE INTERIOR

Bureau of Land Management

[BLM_NV_FRN_4500183156]

Notice of Availability of the Record of Decision for the Rhyolite Ridge Lithium-Boron Project, Esmeralda County, NV

AGENCY: Bureau of Land Management, Interior.

ACTION: Notice of availability.

SUMMARY: The Bureau of Land Management (BLM) announces the availability of the Record of Decision (ROD) for the Final Environmental Impact Statement (EIS) for the Rhyolite Ridge Lithium-Boron Project (Project) located in Esmeralda County, Nevada. The ROD constitutes the decision of the BLM to approve the plan of operations for the Project.

DATES: The Acting Deputy Secretary of the Interior signed the ROD on October 24, 2024.

ADDRESSES: The ROD is available online at https://eplanning.blm.gov/eplanning-ui/project/2012309/510.

FOR FURTHER INFORMATION CONTACT: Scott Distel, Project Manager, telephone (775) 635-4000; address 50 Bastian Road, Battle Mountain, NV 89820; email BLM_NV_BMDO_P&EC_NEPA@blm.gov. Individuals in the United States who are deaf, deafblind, hard of hearing, or have a speech disability may dial 711 (TTY, TDD, or TeleBraille) to access telecommunications relay services for contacting Mr. Distel. Individuals outside the United States should use the relay services offered within their country to make international calls to the point-of-contact in the United States.

SUPPLEMENTARY INFORMATION: The authorized officer for this action has reviewed the environmental analysis in the Final EIS and has selected the North and South Overburden Storage Facility Alternative (Preferred Alternative/Selected Alternative), along with the applicable Applicant-Committed Environmental Protection Measures (ACEPMs) specified in Sections 2.1.13 and 2.2.2 of the Final EIS. The BLM's selection is based on the environmental analysis in the Final EIS, which was published on September 20, 2024. There were no substantial changes to the Final EIS during the 30-day public availability period following publication. An errata sheet was issued following the Final EIS correcting Final EIS Page 4-41, fifth paragraph, line 8, from “approximately 100 feet” to “approximately 25 feet.”

The ROD approves the plan of operations for the Project (NVNV106205338) submitted to the BLM pursuant to 43 CFR 3809 and 3715, and the analysis in the Final EIS. The BLM has considered the analysis of the effectiveness of the mitigation measures, and has determined that implementation of the ROD, with the identified mitigation measures, will not cause unnecessary or undue degradation of the public lands and is consistent with applicable legal requirements.

In accordance with 40 CFR 1505.2(c), the mitigation measures and ACEPMs represent practicable means to avoid or minimize environmental harm from the BLM's Selected Alternative. The ACEPMs, which were developed to avoid or minimize environmental impacts resulting from the Selected Alternative, are part of the Plan. All ACEPMs were designed to avoid or minimize environmental impacts to resources affected by the Plan. All mitigation within the BLM's authority will be implemented and enforced.

The ROD is conditioned on compliance with the Biological Opinion issued by the U.S. Fish and Wildlife Service (USFWS) provided in Appendix A of the ROD and all other necessary local, State, and Federal approvals, authorizations, and permits. Other agencies, including but not limited to Esmeralda County and USFWS, are responsible for issuing and enforcing their own decisions and applicable authorizations for the Project.

Approval of the Project constitutes the final decision of the Department of the Interior (DOI) and, in accordance with the regulations at 43 CFR 4.410(a)(3) and Blue Star, Inc., 41 IBLA 333 (1979), is not subject to administrative appeal under DOI regulations at 43 CFR part 4.

(Authority: 40 CFR 1501.9)

Laura Daniel-Davis,
Acting Deputy Secretary of the Interior.

[FR Doc. 2024-25096 Filed 10-28-24; 8:45 am]

BILLING CODE 4331-21-P